ENVIRONMENTAL PROTECTION AGENCY

40 CFR Part 63

National Emission Standards for Hazardous Air Pollutants for Source Categories

CFR Correction

In Title 40 of the Code of Federal Regulations, Part 63 (§§ 63.1200 to 63.1439), revised as of July 1, 2003, on page 575, in § 63.1427, the first equation in paragraph (e)(2) is corrected to read as follows:

§ 63.1427 Process vent requirements for processes using extended cookout as an epoxide emission reduction technique.

* * * * *

(e) * * *

(2) * * *

* * * * *

In the same title and volume, in the tables to subpart PPP, the headings of Table 2 and Table 7 to Subpart PPP are corrected to read as follows:

* * * * *

Table 2 to Subpart PPP of Part 63—Applicability of Subparts F, G, H, and U to Subpart PPP Affected Sources

* * * * *

Table 7 to Subpart PPP of Part 63—Operating Parameters For Which Monitoring Levels Are Required To Be Established for Process Vents Streams

* * * * *

[FR Doc. 04-55516 Filed 6-30-04; 8:45 am]

BILLING CODE 1505-01-D